DEPARTMENT OF COMMERCE

National Oceanic and Atmospheric Administration

[I.D. 081803D]

Pacific Fishery Management Council; Public Meeting

AGENCY: National Marine Fisheries Service (NMFS), National Oceanic and Atmospheric Administration (NOAA), Commerce.

ACTION: Notice of public meetings.

SUMMARY: The Pacific Fishery Management Council (Council) and its advisory bodies will hold public meetings.

DATES: The Council and its advisory bodies will meet September 7-12, 2003. The Council meeting will begin on Monday, September 8, at 4:15 p.m., reconvening each day through Friday. All meetings are open to the public, except a closed session will be held from 3:30 p.m. until 4:15 p.m. on Monday, September 8 to address litigation and personnel matters. The Council will meet as late as necessary each day to complete its scheduled business.

ADDRESSES: The meetings will be held at the DoubleTree Guest Suites, 16500 Southcenter Parkway, Seattle, WA 98188; telephone: 206-575-8220.

Council address: Pacific Fishery Management Council, 7700 NE Ambassador Place, Suite 200, Portland, OR 97220.

FOR FURTHER INFORMATION CONTACT: Dr. Donald O. McIsaac, Executive Director; telephone: 503-820-2280 or 866-806-7204.

SUPPLEMENTARY INFORMATION: The following items are on the Council agenda, but not necessarily in this order. All items listed are subject to potential Council action.

A. Call to Order

1. Opening Remarks, Introductions

2. Council Member Appointments - Swearing in of New Members

3. Roll Call

4. Executive Director's Report

5. Approve Agenda

B. Administrative and Other Matters

1. Election of Council Chair and Vice Chair

2. April 2003 Council Meeting Minutes

3. Council Input into NOAA Fisheries Constituent Survey

4. Legislative Matters

5. Fiscal Matters

6. Appointments to Advisory Bodies, Standing Committees, and Other Forums for the 2004-06 Term

7. Staff Work Load Priorities and November 2004 Council Meeting Agenda

C. Groundfish Management

1. NMFS Report on Groundfish Management

2. Observer Data Implementation Status

3. Final Harvest Levels for 2004

4. Status of Groundfish Fisheries and Inseason Adjustments

5. Final Criteria for Exempted Fishing Permits and Consideration of Proposals for 2004 Season

6. Groundfish Management Measures for 2004

7. Proposed Monitoring Program for the Shore-based Pacific Whiting Fishery

8. Stock Assessment of Canary Rockfish

9. Groundfish Bycatch Program Environmental Impact Statement

10. Consideration of Individual Quota Programs

D. Habitat

Current Habitat Issues

E. Marine Reserves

1. Update on Marine Reserves Issues

2. Marine Reserves in the Federal Waters Portion of the Channel Islands National Marine Sanctuary

F. Salmon Management

1. Salmon Fishery Update

2. Salmon Methodology Review: Final Prioritization of Modeling Issues for the Scientific and Statistical Committee

3. Mitchell Act Program Update

G. Pacific Halibut Management

1. Status of 2003 Pacific Halibut Fisheries

2. Status of Pacific Halibut Bycatch Estimates for Use by the International Pacific Halibut Commission

3. Proposed Changes to the Catch Sharing Plan and Annual Regulations

SCHEDULE OF ANCILLARY MEETINGS
SUNDAY, SEPTEMBER 7, 2003 |
Groundfish Management Team | 11 a.m.
MONDAY, SEPTEMBER 8, 2003 |
Council Secretariat | 8 a.m.
Groundfish Advisory Subpanel | 8 a.m.
Groundfish Management Team | 8 a.m.
Scientific and Statistical Committee | 8 a.m.
Habitat Committee | 10 a.m.
Legislative Committee | 10:30 a.m.
Budget Committee | 1 p.m.
TUESDAY, SEPTEMBER 9, 2003 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Salmon Technical Team | 8 a.m.
Model Evaluation Workgroup | 1 p.m.
Enforcement Consultants | Immediately following Council Session
WEDNESDAY, SEPTEMBER 10, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
THURSDAY, SEPTEMBER 11, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
FRIDAY, SEPTEMBER 12, 2003 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503)820-2280 or (866)806-7204 at least 5 days prior to the meeting date.

Dated: August 18, 2003.
Richard W. Surdi,
Acting Director, Office of Sustainable Fisheries, National Marine Fisheries Service.

[FR Doc. 03-21608 Filed 8-22-03; 8:45 am]

BILLING CODE 3510-22-S